DEPARTMENT OF THE INTERIOR

U.S. Geological Survey

[GX19GG00995TR00]

Public Meeting of the Scientific Earthquake Studies Advisory Committee

AGENCY: U.S. Geological Survey, Interior.

ACTION: Notice.

SUMMARY: In accordance with the Federal Advisory Committee Act of 1972, the U.S. Geological Survey is hereby giving notice that the Scientific Earthquake Studies Advisory Committee will meet as noted below.

DATES: The meeting will be held on August 6, 2019, from 9 a.m. to 5 p.m., and August 7, 2019, from 9 a.m. to 3 p.m.

ADDRESSES: The meeting will be held at the Golden Hotel, 800 11th Street, Mesa Room, Golden, CO 80401; (303) 279-0100.

FOR FURTHER INFORMATION CONTACT: Dr. Jonathan Godt, U.S. Geological Survey, 1711 Illinois Avenue, Mail Stop 966, Golden, CO 80401, by email at jgodt@usgs.gov, or by telephone at (303) 273-8626.

SUPPLEMENTARY INFORMATION: The SESAC advises the Director of the U.S. Geological Survey (USGS) on matters relating to the USGS's participation in the National Earthquake Hazards Reduction Program.

During the meeting, the SESAC will review the current activities of the USGS Earthquake Hazards Program, discuss future priorities, and consider its draft report to the USGS Director. The final agenda will be posted to the SESAC's website prior to the meeting at https://www.usgs.gov/natural-hazards/earthquake-hazards/scientific-earthquake-studies-advisory-committee-sesac?qt-science_support_page_related_con=2#qt-science_support_page_related_con.

The meeting is open to the public. Members of the public wishing to attend the meeting should register via email at jgodt@usgs.gov. Interested persons may choose to make a public comment at the meeting during the public comment period. Members of the public may also choose to submit written comments by mailing them to Dr. Jonathan Godt, U.S. Geological Survey, 1711 Illinois Avenue, Mail Stop 966, Golden, CO 80401, or via email at jgoft@usgs.gov. All comments received will be given to the SESAC for consideration during the public meeting. Individuals who plan to attend and need special assistance, such as sign language interpretation, should contact the USGS at provided above.

Public Disclosure: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Trent Richardson,
Deputy Associate Director, Natural Hazards Mission Area.

[FR Doc. 2019-15476 Filed 7-19-19; 8:45 am]

BILLING CODE 4338-11-P